DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The proposed collection will establish application consistency for numerous Grant and Cooperative Agreement application packages from potential and chosen recipients. This effort will also streamline processes and provide applicants with a clear and straightforward tool to assist with project budgeting. In addition it will endow DOE reviewers with adequate information to determine if proposed costs are allowable, allocable, and reasonable.

DATES: Comments regarding this collection must be received on or before October 17, 2011. If you anticipate that you will be submitting comments, but find it difficult to do so within the period of time allowed by this notice, please advise the DOE Desk Officer at OMB of your intention to make a submission as soon as possible. The Desk Officer may be telephoned at 202-395-4650.

ADDRESSES: Written comments should be sent to the

DOE Desk Officer, Office of Information and Regulatory Affairs, Office of Management and Budget, New Executive Office Building, Room 10102, 735 17th Street, NW., Washington, DC 20503.

And to:

Carol Hellmann, BudgetJustForm@go.doe.gov. Fax: 720-356-1550.

FOR FURTHER INFORMATION CONTACT: Carol Hellmann, BudgetJustForm@go.doe.gov. Fax: 720-356-1550.

The information collection instrument may be viewed at http://www.eere.energy.gov/golden/Reading_Room.aspx

SUPPLEMENTARY INFORMATION: This information collection request contains: (1) OMB No.: New; (2) Information Collection Request Title: Detailed Budget Justification; (3) Type of Request: New collection; (4) Purpose: This collection of information is necessary in order for DOE to identify allowable, allocable, and reasonable recipient project costs submitted by applicants to Grants and Cooperative Agreements under EERE programs; (5) Annual Estimated Number of Respondents: 406; (6) Annual Estimated Number of Total Responses: 406; (7) Annual Estimated Number of Burden Hours: 3 hours, one response; (8) Annual Estimated Reporting and Recordkeeping Cost Burden: This collection of information does not necessitate any additional reporting or recordkeeping. The estimated cost for the one time response is $109.47.

Statutory Authority: 10 CFR 600.112.

Issued on July 7, 2011.
Jamie Harris,
Director, Office of Acquisition and Financial Assistance, Golden Field Office.

[FR Doc. 2011-23633 Filed 9-14-11; 8:45 am]

BILLING CODE 6450-01-P